DEPARTMENT OF DEFENSE

GENERAL SERVICES ADMINISTRATION

NATIONAL AERONAUTICS AND SPACE ADMINISTRATION

48 CFR Parts 4 and 52

[FAC 2021-05; Docket No. FAR-2021-0052, Sequence No. 1]

Federal Acquisition Regulation: Technical Amendment

AGENCY: Department of Defense (DoD), General Services Administration (GSA), and National Aeronautics and Space Administration (NASA).

ACTION: Final rule.

SUMMARY: This document makes amendments to the Federal Acquisition Regulation (FAR) in order to make needed editorial changes.

DATES: Effective: March 10, 2021.

FOR FURTHER INFORMATION CONTACT: Ms. Lois Mandell, Regulatory Secretariat Division (MVCB), at 202-501-4755 or GSARegSec@gsa.gov. Please cite FAC 2021-05, Technical Amendment.

SUPPLEMENTARY INFORMATION: This document makes editorial changes to parts 4 and 52 of the FAR.

List of Subjects in 48 CFR Parts 4 and 52

Government procurement.

William F. Clark,
Director, Office of Government-wide Acquisition Policy, Office of Acquisition Policy, Office of Government-wide Policy.

Therefore, DoD, GSA, and NASA amend 48 CFR parts 4 and 52 as set forth below:

1. The authority citation for 48 CFR parts 4 and 52 continues to read as follows:

Authority: 40 U.S.C. 121(c); 10 U.S.C. chapter 137; and 51 U.S.C. 20113.

PART 4—ADMINISTRATIVE AND INFORMATION MATTERS

4.402 [Amended]

2. Amend section 4.402 by—

a. In paragraph (b) introductory text, removing “DoD publications” and adding “publications” in its place;

b. In paragraph (b)(1), removing “(DoD 5220.22-M)” and adding “(32 CFR part 117)” in its place;

c. In paragraph (b)(2), removing the quotation mark in front of “National”; and

d. In paragraph (c), removing “Chapter 10 of the NISPOM” and adding “32 CFR 117.19” in its place.

PART 52—SOLICITATION PROVISIONS AND CONTRACT CLAUSES

3. Amend section 52.204-2 by—

a. Revising the date of the clause; and

b. In paragraph (b), removing “(DOD 5220.22-M)” and adding “(32 CFR part 117)” in its place.

The revision reads as follows:

52.204-2 Security Requirements.

* * * * *

Security Requirements (Mar 2021)

* * * * *

[FR Doc. 2021-04848 Filed 3-9-21; 8:45 am]

BILLING CODE 6820-EP-P